GENERAL SERVICES ADMINISTRATION

41 CFR Part 303-70

[FTR Amendment 2012-07; FTR Case 2011-308; Docket Number 2011-0022, Sequence 1]

RIN 3090-AJ21

Federal Travel Regulation (FTR); Payment of Expenses Connected With the Death of Certain Employees

AGENCY: Office of Government-wide Policy, General Services Administration (GSA).

ACTION: Final rule.

SUMMARY: GSA has adopted as final, an interim rule amending the Federal Travel Regulation (FTR) to establish policy for the transportation of the immediate family, household goods, personal effects, and one privately owned vehicle of a covered employee whose death occurred as a result of personal injury sustained while in the performance of the employee's duty as defined by the agency.

DATES: Effective date: November 6, 2012.

Applicability date: This final rule applies to travel relating to employees who died on or after June 9, 2010.

FOR FURTHER INFORMATION CONTACT: The Regulatory Secretariat (MVCB), 1275 First Street NE. Washington, DC 20417, (202) 501-4755, for information pertaining to status or publication schedules. For clarification of content, contact Rick Miller, Office of Government-wide Policy, Travel and Relocation Policy Division, at (202) 501-3822 or email at rodney.miller@gsa.gov. Please cite FTR Amendment 2012-07, FTR Case 2011-308.

SUPPLEMENTARY INFORMATION:

A. Background

Pursuant to 5 U.S.C. 5707, the Administrator of General Services is authorized to prescribe necessary regulations to implement laws regarding Federal employees who travel in the performance of official business away from their official stations. Similarly, 5 U.S.C. 5738 mandates that the Administrator of General Services prescribe regulations relating to official relocation. In addition, the Presidential Memorandum, “Delegation Under Section 2(a) of the Special Agent Samuel Hicks Families of Fallen Heroes Act,” dated September 12, 2011, published in the Federal Register on September 15, 2011 (76 FR 57621), delegates to the Administrator of General Services the authority to issue regulations under Public Law 111-178, the Special Agent Samuel Hicks Families of Fallen Heroes Act, codified at 5 U.S.C. 5724d, relating to the payment of certain expenses when a covered employee dies as a result of injuries sustained in the performance of his or her official duties. The overall implementing authority is the FTR, codified in Title 41 of the Code of Federal Regulations, Chapters 300-304 (41 CFR Chapters 300-304).

This final rule incorporates language based on Public Law 111-178, the Special Agent Samuel Hicks Families of Fallen Heroes Act, codified at 5 U.S.C. 5724d, to allow agencies to provide for relocation of dependents and the household effects of a “covered employee” whose death occurred as a result of personal injury sustained while in the performance of the employee's duty as defined by the agency. The term “covered employees” means: (A) A law enforcement officer, as defined in 5 U.S.C. 5541; (B) an employee in or under the Federal Bureau of Investigation who is not described in subparagraph (A), and (C) a Customs and Border Protection officer, as defined in 5 U.S.C. 8331(31).

B. Summary of Comments Received

GSA received no comments on the interim rule published in the Federal Register on November 21, 2011 (76 FR 71890).

C. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule has been designated a “significant regulatory action” although not economically significant, under section 3(f) of Executive Order 12866. Accordingly, the rule has been reviewed by the Office of Management and Budget.

D. Regulatory Flexibility Act

This final rule will not have significant economic impact on a substantial number of small entities within the meaning of the Regulatory Flexibility Act, 5 U.S.C. 601, et seq., because the revisions are not considered substantive. This final rule is also exempt from Regulatory Flexibility Act per 5 U.S.C. 553 (a)(2), because it applies to agency management or personnel. However, this final rule is being published to provide transparency in the promulgation of Federal policies.

E. Paperwork Reduction Act

The Paperwork Reduction Act does not apply because the changes to the FTR do not impose recordkeeping or information collection requirements, or the collection of information from offerors, contractors, or members of the public that require the approval of the Office of Management and Budget under 44 U.S.C. 3501, et seq.

F. Small Business Regulatory Enforcement Fairness Act

This final rule is also exempt from congressional review prescribed under 5 U.S.C. 801 since it relates solely to agency management and personnel.

List of Subjects in 41 CFR Part 303-70

Government employees, Relocation, Transportation expenses, and Travel.

Dated: October 25, 2012.
Dan Tangherlini,
Acting Administrator of U.S. General Services.

Interim Rule Adopted as Final Without Change

Accordingly, the interim rule amending 41 CFR part 303-70, which was published in the Federal Register at 76 FR 71890 on November 21, 2011, is adopted as a final rule without change.

[FR Doc. 2012-27023 Filed 11-5-12; 8:45 am]

BILLING CODE 6820-14-P